DEPARTMENT OF COMMERCE

National Oceanic and Atmospheric Administration

[RIN 0648-XA401]

North Pacific Fishery Management Council Public Meeting

ACTION: Notice of public meetings.

SUMMARY: The North Pacific Fishery Management Council (Council) and its advisory committees will hold public meetings, June 6-June 14, 2011 in Nome, AK.

DATES: The Council will begin its plenary session at 8 a.m. on Wednesday, June 8 continuing through Tuesday, June 14. The Council's Advisory Panel (AP) will begin at 8 a.m., Monday, June 6 and continue through Friday, June 10. The Scientific Statistical Committee (SSC) will begin at 8 a.m. on Monday, June 6 and continue through Wednesday, June 8, 2011. All meetings are open to the public, except executive sessions.

ADDRESSES: The AP will meet at the Old Saint Joes Church, 407 Being Street. The SSC will meet at the Pioneer Hall, 110 East Front Street, and the Council will meet at Mini Convention Center, 409 River Street, Nome AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

Reports

1. Executive Director's Report (halibut prohibited species catch report), NMFS Management Report (update on Steller Sea Lion Research), Alaska Department of Fish & Game Report, NOAA Enforcement Report, United States Coast Guard Report, United States Fish & Wildlife Service Report.

2. Catch Sharing Plan(CSP): Review CSP size limit algorithm.

3. BSAI Crab Draft Stock Assessment Fishery Evaluation report: Review and approve catch specifications for Norton Sound Red King Crab and Aleutian Island Golden King Crab.; review data for Pribilof Blue King Crab.

4. Essential Fish Habitat (EFH): Review habitat conservation area boundary; review report on Northern Bering Sea Research Plan.

5. Gulf of Alaska (GOA) Salmon Issues: Final action of GOA Chinook Salmon Bycatch Pollock fishery.

6. Bering Sea Aleutian Island (BSAI) Salmon Issues: Initial review of BSAI Chum Salmon Bycatch.

7. Miscellaneous Groundfish Issues: Review Pacific cod assessment model (SSC only); discussion paper on Groundfish uncertainty/total catch accounting; review/approve Halibut Mortality on trawlers Exempted Fishing Permit (EFP) (T); review and approve Research Priorities.

8. Staff Tasking: Review Committees and tasking.

9. Other Business.

The SSC agenda will include the following issues:

1. CSP.

2. BSAI Crab.

3. EFH.

4. BSAI Salmon.

5. Miscellaneous Issues.

The Advisory Panel will address most of the same agenda issues as the Council, except #1 reports. The Agenda is subject to change, and the latest version will be posted at http://www.alaskafisheries.noaa.gov/npfmc/

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 26, 2011.
Tracey L. Thompson,
Acting Director, Office of Sustainable Fisheries, National Marine Fisheries Service.

[FR Doc. 2011-10374 Filed 4-28-11; 8:45 am]

BILLING CODE 3510-22-P